DEPARTMENT OF COMMERCE

Submission for OMB Review; Comment Request

The Department of Commerce will submit to the Office of Management and Budget (OMB) for clearance the following proposal for collection of information under the provisions of the Paperwork Reduction Act (44 U.S.C. Chapter 35).

Agency: Minority Business Development Agency.

Title: Minority Enterprise Development (MED) Week Awards Program.

OMB Control Number: 0640-0025.

Form Number(s): None.

Type of Request: Regular submission (extension of a currently approved information collection).

Number of Respondents: 100.

Average Hours Per Response: 2.

Burden Hours: 200.

Needs and Uses: One of MBDA's largest initiatives is the annual National Minority Enterprise Development (MED) Week Conference. The MED Week Conference recognizes the role that minority entrepreneurs play in building the American economy through the creation of jobs, products and services, in addition to supporting their local communities. The MED Week Conference includes stakeholders from the public and private sectors and provides a venue to discuss critical business issues affecting minority business, as well as strategies to foster the growth and competitiveness of the minority business community. The MED Week Awards Program is a key element of the MED Week Conference as it celebrates the outstanding achievements of minority entrepreneurs and other supporters of the minority business community. The MED Week Awards Programs has several award categories including the Minority Construction Firm of the Year, Minority Technology Firm of the Year, Minority Supplier Distributor of the Year, Advocate of the Year, Media Award, Distinguished Supplier Diversity Award, Access to Capital Awards, Ronald H. Brown Leadership Award, and the Abe Venable Award for Lifetime Achievement. Nominations for these awards are open to the public. MBDA must collect two kinds of information: (a) Information identifying the nominee and nominator; and (b) information explaining why the nominee should be given the award. The information will be used to determine those applicants that best meet the preannounced selection criterion. Use of a nomination form standardizes and limits the information collected as part of the nomination process. This makes the competition fair and eases the burden of applicants and reviewers. Participation in the MED Week Awards Program is voluntary and the awards are strictly honorary.

Affected Public: Individuals or households, business or other for- profit organizations, not-for-profit institutions, and federal, state, local or tribal governments.

Frequency: Annually.

Respondent's Obligation: Voluntary.

OMB Desk Officer: Nicholas Fraser, (202) 395-5887.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to Nicholas Fraser, OMB Desk Officer, FAX number (202) 395-7285, or via the Internet at Nicholas_A._Fraser@omb.eop.gov.

Dated: March 9, 2012.
Gwellnar Banks,
Management Analyst, Office of the Chief Information Officer.

[FR Doc. 2012-6228 Filed 3-14-12; 8:45 am]

BILLING CODE 3510-21-P